DEPARTMENT OF COMMERCE

United States Patent and Trademark Office

Submission for OMB Review; Comment Request; “National Medal of Technology and Innovation Nomination Application”

The United States Patent and Trademark Office (USPTO) will submit to the Office of Management and Budget (OMB) for clearance the following proposal for collection of information under the provisions of the Paperwork Reduction Act.

Agency: United States Patent and Trademark Office, Commerce.

Title: National Medal of Technology and Innovation Nomination Application.

OMB Control Number: 0651-0060.

Form Number(s): None.

Type of Request: Regular.

Number of Respondents: 50 responses per year.

Average Hours per Response: The USPTO estimates that it will take approximately 40 hours to gather the necessary information, prepare the nomination form with the recommendations, and submit the request for nomination to the USPTO.

Burden Hours: 2,000 hours per year.

Cost Burden: $0 per year.

Needs and Uses: The purpose of the National Medal of Technology and Innovation is to recognize those who have made lasting contributions to America's competitiveness, standard of living, and quality of life through technological innovation, and to recognize those who have made substantial contributions to strengthen the Nation's technological workforce. By highlighting the national importance of technological innovation, the Medal also seeks to inspire future generations of Americans to prepare for and pursue technical careers to keep America on the forefront of global technology and economic leadership.

Frequency: On occasion.

Respondent's Obligation: Required to Obtain or Retain Benefits.

OMB Desk Officer: Nicholas A. Fraser, email: Nicholas_A._Fraser@omb.eop.gov.

Once submitted, the request will be publicly available in electronic format through www.reginfo.gov. Follow the instructions to view Department of Commerce collections currently under review by OMB.

Further information can be obtained by:

• Email: InformationCollection@uspto.gov. Include “0651-0060 copy request” in the subject line of the message.

• Mail: Marcie Lovett, Records and Information Governance Division Director, Office of the Chief Technology Officer, United States Patent and Trademark Office, P.O. Box 1450, Alexandria, VA 22313-1450.

Written comments and recommendations for the proposed information collection should be sent on or before May 29, 2018 to Nicholas A. Fraser, OMB Desk Officer, via email to Nicholas_A._Fraser@omb.eop.gov or by fax to 202-395-5197, marked to the attention of Nicholas A. Fraser.

Marcie Lovett,
Records and Information Governance Division, Office of the Chief Technology Officer, United States Patent and Trademark Office.

[FR Doc. 2018-08952 Filed 4-26-18; 8:45 am]

BILLING CODE 3510-16-P